NATIONAL AERONAUTICS AND SPACE ADMINISTRATION

[Notice (03-132)]

NASA Advisory Council, Space Science Advisory Committee Sun-Earth Connection Advisory Subcommittee Meeting

AGENCY: National Aeronautics and Space Administration (NASA).

ACTION: Notice of meeting.

SUMMARY: The National Aeronautics and Space Administration announces a forthcoming meeting of the NASA Advisory Council (NAC), Space Science Advisory Committee (SScAC), Sun-Earth Connection Advisory Subcommittee (SECAS).

DATES: Tuesday, November 4, 2003, 8:30 a.m. to 5 p.m.; Wednesday, November 5, 2003, 8:30 a.m. to 5 p.m.; and Thursday, November 6, 2003, 8:30 a.m. to noon.

ADDRESSES: Capitol Hill Club, Governor's Room, 300 First Street, SE., Washington, DC 20003.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

—SEC Overview

—Bahcall Report on Hubble Space Telescope

—Solar Terrestrial Probe Program Update

—Living with a Star Program Update

—Reports from MOWG's

—SEC Instrument Development Program

It is imperative that the meeting be held on these dates to accommodate the scheduling priorities of the key participants. Visitors will be requested to sign a visitor's register.

June W. Edwards,
Advisory Committee Management Officer, National Aeronautics and Space Administration.

[FR Doc. 03-26810 Filed 10-23-03; 8:45 am]

BILLING CODE 7510-13-P